DEPARTMENT OF AGRICULTURE

Food Safety and Inspection Service

[Docket No. 00-020N]

National Advisory Committee on Microbiological Criteria for Foods; Renewal

AGENCY: Food Safety and Inspection Service, USDA.

ACTION: Notice of Re-chartering of Committee.

SUMMARY: This notice announces the re-chartering of the National Advisory Committee on Microbiological Criteria for Foods (NACMCF). The Committee is being renewed in cooperation with the Department of Health and Human Services (HHS). The establishment of the Committee was recommended by a 1985 report of the National Academy of Sciences Committee on Food Protection, Subcommittee on Microbiological Criteria, “An Evaluation of the Role of Microbiological Criteria for Foods.” The current charter for the NACMCF is available for viewing on the FSIS homepage at www.fsis.usda.gov under mission and activities.

FOR FURTHER INFORMATION CONTACT: Dr. Carol Maczka, Executive Secretariat, USDA, Food Safety and Inspection Service, 3rd Floor—Room 355 Aerospace Center, 901 D Street, SW., Washington, DC 20024. Background materials are available for inspection by contacting Dr. Maczka at (202) 690-6540.

SUPPLEMENTARY INFORMATION:

Background

The United States Department of Agriculture (USDA) is charged with the enforcement of the Federal Meat Inspection Act (FMIA), the Poultry Products Inspection Act (PPIA), and the Egg Products Inspection Act (EPIA). Under these Acts, USDA is responsible for the wholesomeness and safety of meat, poultry, and egg products intended for human consumption. Similarly, the Secretary of HHS is charged with the enforcement of the Federal Food, Drug, and Cosmetic Act (FFDCA). Under this Act, HHS is responsible for ensuring the wholesomeness and safety of human foods other than meat, poultry, and egg products, and of animal feeds.

In order to continue to meet the responsibilities of the FMIA, PPIA, EPIA, and FFDCA, the NACMCF is being reestablished. The Committee will be charged with advising and providing recommendations to the Secretaries on the development of microbiological criteria by which the safety and wholesomeness of food can be assessed, including criteria for microorganisms that indicate whether foods have been adequately and appropriately processed.

Reestablishment of this Committee is necessary and in the public interest because the development of a sound public policy in this area can best be accomplished by a free and open exchange of information and ideas among Federal, State, and local agencies, and other interested parties. The complexity of the issues to be addressed requires that more than one meeting per year will be necessary to accomplish the Committee's tasks.

Members will be appointed by the Secretary of USDA after consultation with the Secretary of HHS. Because of their interest in the matters to be addressed by this Committee, advice on membership appointments will be requested from the Department of Commerce's National Marine Fisheries Service and the Department of Defense's Veterinary Service Activity.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done in Washington, DC on: September 11, 2000.
Paul W. Fiddick,
Assistant Secretary for Administration.

[FR Doc. 00-23771 Filed 9-14-00; 8:45 am]

BILLING CODE 3410-DM-P